DEPARTMENT OF TRANSPORTATION

Federal Railroad Administration

Privacy Act of 1974: System of Records

AGENCY: Federal Railroad Administration, DOT.

ACTION: Notice to establish a system of records.

SUMMARY: DOT proposes to establish a new system of records under the Privacy Act of 1974.

EFFECTIVE DATE: February 17, 2004. If no comments are received, the proposal will become effective on the above date. If comments are received, the comments will be considered and, where adopted, the documents will be republished with changes.

ADDRESSES: Address all comments concerning this notice to Yvonne L. Coates, Department of Transportation, Office of the Secretary, 400 7th Street, SW., Washington, DC 20590, (202) 366-6964 (telephone), (202) 366-7373 (fax) Yvonne.Coates@ost.dot.gov (Internet address).

FOR FURTHER INFORMATION CONTACT: Department of Transportation, Federal Railroad Administration, Melissa Porter, Trial Attorney, Safety Law Division, Office of the Chief Counsel, 1120 Vermont Avenue, NW., Stop 10, Washington, DC 20590-0001, (202) 493-6034, (202) 493-6068 (fax).

SUPPLEMENTARY INFORMATION: The Department of Transportation system of records notices subject to the Privacy Act of 1974 (5 U.S.C. 552a), as amended, have been published in the Federal Register and are available from the above mentioned address.

System of Records

System number:

DOT/FTA 131.

System name:

Engineer Certification Appeals Docket.

Security Classification:

Unclassified.

System location:

Department of Transportation (DOT), Federal Railroad Administration (FRA), Office of the Chief Counsel, Safety Law Division, RCC-10, 1120 Vermont Avenue, NW., Stop 10, Washington, DC 20590-0001. Department of Transportation, Docket Management System, Room PL-401, 400 7th Street, SW., Washington, DC 20590, and on the Internet at http://www.dms.dot.gov and at http://www.fra.dot.gov.

Categories of individuals covered by the system:

Individuals requesting FRA review, with or without administrative hearings, of employing railroad decisions to revoke or deny the individual's engineer certification (collectively referred to as engineer certification appeals).

Categories of records in the system:

Submissions from individuals, railroads and the FRA relating to engineer certification appeals (petitions, hearing transcripts, correspondence between parties, and other filings, etc.) and decisions by the Locomotive Engineer Review Board (LERB), FRA Administrative Hearing Officer, and the FRA Administrator regarding these appeals.

Authority for maintenance of the system:

Rail Safety Improvement Act of 1988 (Pub. L. 100-342).

Purpose(s):

To maintain a public docket so that the LERB, FRA Administrative Hearing Officer, and the FRA Administrator can issue decisions pursuant to the dispute resolution procedures set forth in 49 CFR Part 240. Once issued, the decisions will be part of the public docket as well. Even though these decisions do not constitute precedent, how the LERB, FRA Administrative Hearing Officer, and FRA Administrator have resolved certain issues in past cases may add some predictability to the outcome of a potential case. Furthermore, greater public awareness of actions that can lead to loss of an engineer certification may help reduce such actions in the first place.

Routine uses of records maintained in the system, including categories of users and the purposes of such uses:

Posting of LERB, presiding officer, and Administrator final decisions on governmental Web sites, including FRA's public Web site (http://www.fra.dot.gov) to inform the public of how safety laws are being enforced, and to inform those individuals or entities who may potentially become parties to these proceedings, or who are already parties to proceedings how FRA is implementing the dispute resolution procedures set forth in 49 CFR Part 240. Posting of documents submitted by the parties in a given case on governmental Web sites to make them more easily accessible.

Disclosure to consumer reporting agencies:

None.

Policies and Practices for Storing, Retrieving, Accessing, Retaining, and Disposing of Records in the System

Storage:

File folders, file cabinets, and the Department of Transportation's Docket Management System.

Retrievability:

Records are retrievable by name of individual and/or his or her employer, keywords in the text, or by docket numbers assigned sequentially as the docket clerk receives them.

Safeguards:

None are necessary because all documents are a matter of public record.

Retention and disposal:

Appropriate records retention schedules will be applied. Certain automated records will be retained indefinitely to provide a complete compliance history.

System manager(s) and address:

Docket Clerk, Department of Transportation, Federal Railroad Administration, Office of the Chief Counsel, Safety Law Division, RCC-10, 1120 Vermont Avenue, NW., Stop 10, Washington, DC 20590-0001. Docket Clerk, Department of Transportation, Docket Management System, Room PL-401, 400 7th Street, SW., Washington, DC 20590.

Notification procedure:

Inquiries should be directed to: Federal Railroad Administration, Safety Law Division, Office of the Chief Counsel, 1120 Vermont Avenue, NW., Stop 10, Washington, DC 20590-0001.

Record access procedures:

Contact (202) 493-6053 or write to the System Manager for information on procedures for gaining access to records.

Contesting record procedures:

Same as “record access procedure.”

Record source categories:

Information is obtained directly from the individual or from other persons with personal knowledge of the facts and circumstances involved.

Exemptions:

None.

OMB Control number:

Not Applicable.

Dated: December 29, 2003.
Yvonne L. Coates,
Privacy Act Coordinator.

[FR Doc. 04-70 Filed 1-2-04; 8:45 am]

BILLING CODE 4910-06-P